MILLENNIUM CHALLENGE CORPORATION

[MCC FR 05-20]

Notice of Quarterly Report (July 1, 2005 through September 30, 2005)

AGENCY: Millennium Challenge Corporation.

SUMMARY: The Millennium Challenge Corporation (MCC) is reporting for the quarter July 1, 2005 through September 30, 2005, with respect to either assistance provided under Section 605 of the Millennium Challenge Act of 2003 (Pub. L. 108-199, Division D (the Act)), or transfers of funds to other federal agencies pursuant to Section 619 of that Act. The following report shall be made available to the public by means of publication in the Federal Register and on the Internet Web site of the MCC (http://www.mcc.gov) in accordance with Section 612(b) of the Act.

Assistance Provided Under Section 605
Projects | Obligated | Objectives | Disbursements | Measures
Country: Madagascar Year: 2005 Quarter 4 Total obligation: $109,773,000
Entity to which the assistance is provided: MCA Madagascar Total Quarterly Disbursement: $2.475 million
Land Tenure Project | $36 mil. | Increase Land Titling and Security |  | Legislative proposal (“loin de cadrage”) reflecting the PNF submitted to Parliament and passed. Percentage of land documents inventoried, restored, and/or digitized. Average time and cost required to carry out property-related transactions at the local and/or national land services offices. Time/cost to respond to information request, issue titles and to modify titles after the first land right.
|  |  |  | Number of land disputes reported and resolved in the target zones and sites of implementation.
|  |  |  | Percentage of land in the zones that is demarcated and ready for titling.
|  |  |  | Promote knowledge and awareness of land tenure reforms among inhabitants in the zones (surveys).
Finance Project | $37 mil. | Increase Competition in the Financial Sector |  | Submission to Parliament and passage of new laws recommended by outside experts and relevant commissions. CPA Association (CSC) list of accountants registered. Maximum check clearing delay. Volume of funds in payment system and number of transactions. Public awareness of new financial instruments (surveys). Report of credit and payment information to a central database.
|  |  |  | Number of holders of new denomination T-bill holdings, and T-bill issuance outside Antananarivo as measured by Central Bank report of redemption date.
|  |  |  | Volume of production covered by warehouse receipts in the zones.
|  |  |  | Volume of MFI lending in the zones.
|  |  |  | MFI portfolio-at-risk delinquency rate.
|  |  |  | Number of new bank accounts in the zones.
Agricultural Business Investment Project | $4 mil. | Improve Agricultural Projection Technologies and Market Capacity in Rural Areas |  | Number of rural producers receiving or soliciting information from ABCs about the opportunities. Zones identified and description of beneficiaries within each zone submitted. Number of cost-effective investment strategies developed. Number of plans prepared.
|  |  |  | Number of farmers and business employing technical assistance received.
|  |  |  | n/a.
Program Administration and Control | $15.464 mil. |  | $2.475 mil.

Program Objective | Obligated | Program goal | Disbursements | Measures
Country: Honduras Year: 2005 Quarter 4 Total Obligation: $215,000,000
Entity to which the assistance is provided: MCA Honduras Total Quarterly Disbursement: $00**
Rural Development Project | $72 mil. | Increase the productivity and business skills of farmers who operate small and medium-size farms and their employees |  | Hours of technical assistance delivered to Program Farmers (thousands). Funds lent by MCA-Honduras to financial institutions (cumulative). Hours of technical assistance to financial institutions (cumulative).
|  |  |  | Lien Registry equipment installed.
|  |  |  | Kilometers of farm-to-market road upgraded (cumulative).
Transportation Project | $126 mil. | Reduce transportation costs between targeted production centers and national, regional and global markets |  | Kilometers of highway upgraded. Kilometers of secondary road upgraded. Number of weight stations built.
Program Administration and Control | $12.122 mil. |  | $0
** The compact entered into force on September 30, the last day of the quarter, and therefore no disbursements were made in the quarter.

Transfers under 619b: U.S. agency to which funds were transferred | Transfers under 619b: Amount | Transfers under 619b: Country | Transfers under 619b: Description of program or project
U.S. Agency for International Development | $60,000,000 | NA | Threshold Program.

Dated: December 13, 2005.
Frances C. McNaught,
Vice President, Congressional and Public Affairs, Millennium Challenge Corporation.

[FR Doc. 05-24179 Filed 12-16-05; 8:45 am]

BILLING CODE 9210-01-P